DEPARTMENT OF VETERANS AFFAIRS

[OMB Control No. 2900-0548]

Proposed Information Collection Activity: Proposed Collection; Comment Request

AGENCY: Board of Veterans' Appeals, Department of Veterans Affairs.

ACTION: Notice.

SUMMARY: The Board of Veterans' Appeals (BVA), Department of Veterans Affairs (VA), is announcing an opportunity for public comment on the proposed collection of certain information used by the agency. Under the Paperwork Reduction Act (PRA) of 1995, Federal agencies are required to publish notice in the Federal Register concerning each proposed collection of information, including each proposed extension of a currently approved collection, and allow 60 days for public comment in response to the notice. This notice solicits comments for information needed to assess the effectiveness of current procedures used in conducting hearing.

DATES: Written comments and recommendations on the proposed collection of information should be received on or before September 17, 2002.

ADDRESSES: Submit written comments on the collection of information to Gayle Srommen (01), Department of Veterans Affairs, 810 Vermont Avenue, NW, Washington, DC 20420 or e-mail: gayle.strommen@mail.va.gov. Please refer to “OMB Control No. 2900-0548” in any correspondence.

FOR FURTHER INFORMATION CONTACT: Gayle Strommen at (202) 565-9717 or FAX (202) 565-4064.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, BVA invites comments on: (1) Whether the proposed collection of information is necessary for the proper performance of BVA's functions, including whether the information will have practical utility; (2) the accuracy of BVA's estimate of the burden of the proposed collection of information; (3) ways to enhance the quality, utility, and clarity of the information to be collected; and (4) ways to minimize the burden of the collection of information on respondents, including through the use of automated collection techniques or the use of other forms of information technology.

Titles: Generic Clearance for Board of Veterans' Appeals Customer Satisfaction with Hearing Survey, VA Form 0745.

OMB Control Number: 2900-0548.

Type of Review: Reinstatement, with change, of a previously approved collection for which approval has expired.

Abstract: The presiding official at hearings conducted by the BVA will, at the conclusion of the proceeding, present the appellant with a Customer Satisfaction with Hearing Survey, VA Form 0745 to complete. The appellant is informed that participation is voluntary, anonymous and will have no bearing on the outcome of the hearing. BVA will use the information to assess the effectiveness of current procedures used in conducting hearings and to develop better methods of serving veterans.

Affected Public: Individuals or households.

Estimated Annual Burden: 600 hours.

Estimated Average Burden Per Respondent: 6 minutes.

Frequency of Response: One time.

Estimated Number of Respondents: 6,000.

Dated: July 2, 2002.
By direction of the Secretary.
Genie McCully,
Acting Director, Information Management Service.

[FR Doc. 02-18269 Filed 7-18-02; 8:45 am]

BILLING CODE 8320-01-P